DEPARTMENT OF STATE

[Public Notice 3842]

Office of Recruitment, Examination, and Employment; 60-Day Notice of Proposed Information Collection: Thomas R. Pickering Foreign Affairs Fellowship Program

ACTION: Notice.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal to be submitted to OMB:

Type of Request: New.

Originating Office: HR/REE.

Title of Information Collection: Thomas R. Pickering Foreign Affairs Fellowship Program.

Frequency: Annual.

Form Number: None.

Respondents: University Graduate and Undergraduate Students.

Estimated Number of Respondents: 250.

Average Hours Per Response: 40.

Total Estimated Burden: 3,750.

Average Cost Per Applicant: $50.

Total Estimated Cost Burden: $12, 500.

• Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to LeAnn Bullin, Department of State, 2401 E Street, NW., 5H, Washington, DC 20522, who may be reached on 202-261-8927.

Dated: November 2, 2001.
Ruth Whiteside,
Principal Deputy Assistant Secretary, Bureau of Human Resources, Department of State.

[FR Doc. 02-663 Filed 1-9-02; 8:45 am]

BILLING CODE 4710-15-P